FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Dandino Inc. dba Danielli dba Winston (NVO & OFF), 157 W. 27th Street, Los Angeles, CA 90007. Officers: Carlos Gonzales, Vice President (Qualifying Individual), Yaniv Daniel, President. Application Type: New NVO & OFF License.

Goldstar Global Logistic, LLC (NVO & OFF), 7 Prince Lane, Westbury, NY 11590. Officer: Kunj B. Kalra, President (Qualifying Individual). Application Type: New NVO & OFF License.

JRM Freight Corp. (NVO), 14388 SW. 96 Lane, Miami, FL 33186. Officer: Juan R. Albanes, Treasurer/President/Secretary (Qualifying Individual). Application Type: New NVO License.

Makro Logistics Group, LLC (NVO & OFF), 2229 NW. 79 Avenue, Doral, FL 33122. Officers: Paul F. Mendoza, COO (Qualifying Individual), Marcela Mendoza, President. Application Type: QI Change.

SAPIA Logistics, Inc. (NVO & OFF), 1331 Gemini Street, Suite 103, Houston, TX 77058. Officers: Vernon Darko, President (Qualifying Individual), Eric Miller, Vice President. Application Type: New NVO & OFF License.

Seagull Global Logistics USA Limited Liability Company (OFF), 124 Jackson Avenue, Princeton, NJ 08540. Officers: Ashutosh L. Korde, Member/Manager (Qualifying Individual), Nitin Agarwal, Director. Application Type: New OFF License.

Dated: January 21, 2011.
Karen V. Gregory,
Secretary.

[FR Doc. 2011-1682 Filed 1-25-11; 8:45 am]

BILLING CODE 6730-01-P